DEPARTMENT OF THE INTERIOR

National Park Service

[NPS-WASO-NAGPRA-11258; 2200-1100-665]

Notice of Intent to Repatriate Cultural Items: Maxey Museum, Whitman College, Walla Walla, WA; Correction

AGENCY: National Park Service, Interior.

ACTION: Notice; correction.

Notice is here given in accordance with the Native American Graves Protection and Repatriation Act (NAGPRA), 25 U.S.C. 3005, of the intent to repatriate cultural items in the possession of Maxey Museum, Whitman College, Walla Walla, WA that meet the definition of unassociated funerary objects under 25 U.S.C. 3001.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice removes two of the unassociated funerary objects published in a Notice of Intent to Repatriate in the Federal Register (77 FR 13622-13622, March 7, 2012). The two objects were not included due to a cataloguing error.

In the Federal Register (77 FR 13622-13622, March 7, 2012), paragraph six, sentence two is corrected by substituting the following sentence:

The unassociated funerary objects are: 25 stone implements; 3 pestle fragments; 1 pounding stones; 1 grooved stone; 1 mortar; 2 pestles; 1 bone awl; and 1 lot of metal beads.

In the Federal Register (77 FR 13622-13622, March 7, 2012), paragraph 11, sentence one is corrected by substituting the following sentence:

• Pursuant to 25 U.S.C. 3001(3)(B), the 35 cultural items described above are reasonably believed to have been placed with or near individual human remains at the time of death or later as part of the death rite or ceremony and are believed, by a preponderance of the evidence, to have been removed from specific burial sites of Native American individuals.

Additional Requestors

Representatives of any other Indian tribe that believes itself to be culturally affiliated with the unassociated funerary objects should contact Gary Rollefson, Maxey Museum, Whitman College, 345 Boyer Avenue, Walla Walla, WA 99362, telephone (509) 527-4938, before November 13, 2012. Repatriation of the unassociated funerary objects to the Confederated Tribes and Bands of the Yakama Nation, Washington; Confederated Tribes of the Colville Reservation, Washington; Confederated Tribes of the Umatilla Reservation, Oregon; Confederated Tribes of the Warm Springs Reservation of Oregon; Nez Perce Tribe, Idaho (previously listed as Nez Perce Tribe of Idaho) (hereafter referred to as “The Tribes”); and the Wanapum Band, a non-Federally recognized Indian group, may proceed after that date if no additional claimants come forward.

Maxey Museum, Whitman College is responsible for notifying The Tribes and the Wanapum Band, a non-Federally recognized Indian group, that this notice has been published.

Dated: September 11, 2012.
Sherry Hutt,
Manager, National NAGPRA Program.

[FR Doc. 2012-25048 Filed 10-10-12; 8:45 am]

BILLING CODE 4312-50-P